NUCLEAR REGULATORY COMMISSION

[Docket 70-7005]

Waste Control Specialists, LLC; Issuance of Environmental Assessment and Finding of No Significant Impact for Exemption From Certain NRC Licensing Requirements for Special Nuclear Material for Waste Control Specialists, LLC

The U.S. Nuclear Regulatory Commission (NRC or the Commission) is considering issuance of an Order pursuant to section 274f of the Atomic Energy Act that would exempt Waste Control Specialists LLC (WCS) from certain NRC regulations. The exemption would allow WCS, under specified conditions, to possess waste containing special nuclear material (SNM), in greater quantities than specified in 10 CFR part 150, at WCS's facility located in Andrews County, Texas, without obtaining an NRC license pursuant to 10 CFR part 70. A description of the operations at the facility and staff's safety analysis for the exemption are discussed in the companion Safety Evaluation Report (SER).

Environmental Assessment (EA)

Identification of Proposed Action: Staff proposes to exempt WCS from the licensing requirements in 10 CFR part 70. The exemption would permit WCS to possess SNM without regard for mass. Rather than relying on mass to ensure criticality safety, concentration-based limits are being applied, such that accumulations of SNM at or below these concentration limits would not pose a criticality safety concern. The methodology used to establish these limits is discussed in the SER. The exemption is contingent on WCS complying with specific conditions in the exemption. These conditions are as follows:

1. Concentrations of SNM in individual waste containers and/or during processing must not exceed the following values:

SNM isotope | Operational limit (gram SNM/gram waste) | Measurement uncertainty (gram SNM/gram waste)
U-233 | 4.7E-04 | 7.1E-05
U-235 (10 percent enriched) | 9.9E-04 | 1.5E-04
U-235 (100 percent enriched) | 6.2E-04 | 9.3E-05
Pu-239 | 2.8E-04 | 4.2E-05
Pu-241 | 2.2E-04 | 3.2E-05

The measurement uncertainty values in column 3 above represent the maximum one-sigma uncertainty associated with the measurement of the concentration of the particular radionuclide. When mixtures of these SNM isotopes are present in the waste, the sum-of-the-fractions rule, as illustrated below, should be used.

The SNM must be homogeneously distributed throughout the waste. If the SNM is not homogeneously distributed, then the limiting concentrations must not be exceeded on average in any contiguous mass of 600 kilograms.

2. Waste must not contain “pure forms” of chemicals containing carbon, fluorine, magnesium, or bismuth in bulk quantities (e.g., a pallet of drums, a B-25 box). By “pure forms,” it is meant that mixtures of the above elements such as magnesium oxide, magnesium carbonate, magnesium fluoride, bismuth oxide, etc. do not contain other elements. The presence of the above materials will be determined and documented by the generator, based on process knowledge or testing.

3. Waste accepted must not contain total quantities of beryllium, hydrogenous material enriched in deuterium, or graphite above one tenth of one percent of the total weight of the waste. The presence of the above materials will be determined and documented by the generator, based on process knowledge, or testing.

4. Waste packages must not contain highly water soluble forms of SNM greater than 350 grams of U-235 or 200 grams of U-233 or 200 grams of Pu. The sum of the fractions rule will apply for mixtures of U-233, U-235, and Pu. When multiple containers are processed in a larger container, the total quantity of soluble SNM shall not exceed these mass limits. Highly soluble forms of SNM include, but are not limited to: uranium sulfate, uranyl acetate, uranyl chloride, uranyl formate, uranyl fluoride, uranyl nitrate, uranyl potassium carbonate, uranyl sulfate, plutonium chloride, plutonium fluoride, and plutonium nitrate. The presence of the above materials will be determined and documented by the generator, based on process knowledge or testing.

5. Processing of mixed waste containing SNM will be limited to chemical stabilization using the following chemicals: Ferrous sulfate, ferrous sulfide, portland cement, sodium hypochlorite, sodium tripoly-phosphate, Metaplex II (attapulgite-type clay), hexaderyl mescaptan, lime, sodium hydroxide, Metaplex III, hydrogen peroxide, sodium metabisulfate, sodium sulfide, and sodium hydrosulfide.

6. Prior to shipment of waste, WCS shall require generators to provide a written certification containing the following information for each waste stream:

a. Waste Description. The description must detail how the waste was generated, list the physical forms in the waste, and identify uranium chemical composition.

b. Waste Characterization Summary. The data must include a general description of how the waste was characterized (including the volumetric extent of the waste, and the number, location, type, and results of any analytical testing), the range of SNM concentrations, and the analytical results with error values used to develop the concentration ranges.

c. Uniformity Description. A description of the process by which the waste was generated showing that the spatial distribution of SNM must be uniform, or other information supporting spatial distribution.

d. Manifest Concentration. The generator must describe the methods to be used to determine the concentrations on the manifests. These methods could include direct measurement and the use of scaling factors. The generator must describe the uncertainty associated with sampling and testing used to obtain the manifest concentrations.

WCS shall review the above information and, if adequate, approve in writing this pre-shipment waste characterization and assurance plan before permitting the shipment of a waste stream. This will include statements that WCS has a written copy of all the information required above, that the characterization information is adequate and consistent with the waste description, and that the information is sufficient to demonstrate compliance with Conditions 1 through 4. Where generator process knowledge is used to demonstrate compliance with Conditions 1, 2, 3, or 4, WCS shall review this information and determine when testing is required to provide additional information in assuring compliance with the Conditions. WCS shall retain this information as required by the State of Texas to permit independent review.

At the time waste is received, WCS shall require generators of SNM waste to provide a written certification with each waste manifest that states that the SNM concentrations reported on the manifest do not exceed the limits in Condition 1, that the measurement uncertainty does not exceed the uncertainty value in Condition 1, and that the waste meets Conditions 2 through 4.

WCS shall require generators to sample and determine the SNM concentration for each waste stream at the following frequency: (a) If the concentrations are above one tenth the SNM limits (Condition 1), once per 600 kg, (b) if the concentrations are below one tenth and greater than one hundredth of the SNM limits, once per 6,000 kg, and (c) if the concentrations are below one hundredth of the SNM limits, once per 60,000 kg.

If the waste is determined to be not homogeneous (i.e., maximum, which cannot exceed the limits in Condition 1, and minimum testing values performed by the generator are greater than five times the average value), the generator shall sample and determine the SNM concentration once per 600 kg thereafter, regardless of SNM concentration. In this case, samples shall be a composite consisting of four uniformly sampled aliquots.

The certification required under these conditions shall be made in writing and include the statement that the signer of the certification understands that this information is required to meet the requirements of the U.S. Nuclear Regulatory Commission and must be complete and accurate in all material respects.

7. WCS shall sample and determine the SNM concentration for each waste stream at the following frequency: (a) If the concentrations are above one tenth the SNM limits (Condition 1), once per 1,500 kg for the first shipment and every 6,000 kg thereafter, (b) if the concentrations are below one tenth and greater than one hundredth of the SNM limits, once per 20,000 kg for the first shipment and every 60,000 kg thereafter, and (c) if the concentrations are below one hundredth of the SNM limits, once per 600,000 kg. This confirmatory testing is not required for waste to be disposed of at DOE's WIPP facility.

If the waste is determined to be not homogeneous (i.e., maximum and minimum testing values performed by the generator are greater than five times the average value), WCS shall sample and determine the SNM concentration once per 1,500 kg for the first shipment and every 6,000 kg thereafter, regardless of SNM concentration. In this case, samples shall be a composite consisting of four uniformly sampled aliquots.

8. WCS shall notify the NRC, Region IV office within 24 hours if any of the above Conditions are violated. A written notification of the event must be provided within 7 days.

9. WCS shall obtain NRC approval prior to changing any activities associated with the above Conditions.

Need for the Proposed Action: WCS requested an exemption in a letter dated February 22, 2000. WCS noted that Envirocare of Utah, Inc. was granted a similar exemption. As a basis for the request, WCS noted that it was receiving higher quantities of waste containing SNM for treatment. They further note that they have not exceeded the current SNM mass limits in its State of Texas license, but expected that the current SNM mass limits could severely impact their ability to compete in future mixed waste treatment markets.

Environmental Impacts of the Proposed Action: WCS is licensed by the State of Texas, an NRC Agreement State, under a 10 CFR part 30 equivalent license for the treatment and storage of mixed waste and low level radioactive waste. WCS is also licensed by Texas to dispose of hazardous wastes. The State of Texas, in support of its licensing activities, has conducted safety reviews of radiological activities at the site. The proposed actions now under consideration would allow for more SNM to be stored on site, but should not substantially change environmental impacts from current operations. Effluent releases and potential doses to the public are regulated by the State of Texas and are not anticipated to change as a result of the increased storage of SNM on site. It is anticipated that the exemption will result in an increase (up to 20 percent) in truck shipments to the WCS facility. However, in the absence of the exemption, these shipments would likely go to other facilities. In addition, the increased traffic in the area surrounding WCS will not appreciably change the overall traffic in the area. Therefore, the net transportation impact will not be significant.

The regulations regarding SNM possession in 10 CFR part 150 set mass limits whereby a licensee is exempted from the licensing requirements of 10 CFR part 70 and can be regulated by an Agreement State. The licensing requirements in 10 CFR part 70 apply to persons possessing greater than critical mass quantities (as defined in 10 CFR 150.11). The principal emphasis of 10 CFR part 70 is criticality safety and safeguarding SNM against diversion or sabotage. The NRC staff considers that criticality safety can be maintained by relying on concentration limits, under the specified conditions. These concentration limits are considered an alternative definition of quantities not sufficient to form a critical mass to the weight limits in 10 CFR 150.11, thereby assuring the same level of protection. While there could be impacts if the exemption conditions are not met, such potential impacts are no different than if current requirements are not met. Safeguarding of SNM in waste is not considered a significant issue because of the diffuse form of the SNM in the waste.

A condition of the proposed action (condition 7) would require WCS to conduct periodic confirmatory concentration verification on waste containing SNM. WCS currently conducts activities where waste is handled, but the additional sampling and testing would be in addition to current site activities already conducted under WCS's radiation protection program. The additional sampling and testing would also be conducted under this radiation protection program with an emphasis on maintaining doses as low as reasonably achievable. The sampling and testing required will result in an increase in dose to workers. However, the increase in occupational exposure will be within regulatory limits and is considered justified in order to provide additional assurance that the SNM concentrations in waste do not exceed the specified limits.

Based on the above, the NRC concludes that this proposed exemption will have no significant radiological or nonradiological environmental impacts.

Alternatives to the Proposed Action: The NRC staff considered two alternatives to the proposed action. One alternative to the proposed action would be to not grant the exemption (no-action alternative). Under this alternative, WCS would continue to be restricted to possess limited quantities of SNM. As discussed above, the environmental impacts from allowing a greater quantity of SNM, subject to concentration and other conditions, are essentially equivalent to the no-action alternative. As discussed above, an increase in occupational exposure would result from the sampling and testing of SNM waste.

Another alternative would be to grant the exemption without conditions. This option would not provide the same level of protection against an inadvertent criticality as the current mass limits in 10 CFR part 150 and would not provide sufficient protection of health, safety, and the environment. A third alternative would be to grant the exemption without imposing the condition in the Order to perform confirmatory testing. This option would not increase the occupational dose; however, as discussed above and in the SER, this confirmatory testing is considered necessary to provide additional assurance that the SNM concentrations reported on the manifest are accurate. Grossly exceeding the SNM concentration limits could result in an inadvertent criticality. In this event, it is likely that nearby workers would receive doses in excess of the annual occupational limits. The limits defined under the preferred alternative would insure that this event would not occur or would be remote.

Agencies and Persons Consulted: Officials from the State of Texas, Department of Health were contacted about this EA for the proposed action and had no comments.

Finding of No Significant Impact

The environmental impacts of the proposed action have been reviewed in accordance with the requirements set forth in 10 CFR part 51. Based upon the foregoing EA, the NRC finds that the proposed action of granting an exemption from NRC licensing requirements in 10 CFR Part 70 under the conditions specified will not significantly impact the quality of the human environment. The staff further finds that none of the criteria contained in 10 CFR 51.20 which would require the preparation of an Environmental Impact Statement (EIS) has been met.

Accordingly, the NRC is not required to prepare an EIS for the proposed exemption.

Dated at Rockville, Maryland this 18th day of October 2001.
For The Nuclear Regulatory Commission.
Thomas H. Essig,
Chief, Environmental & Performance Assessment Branch, Division of Waste Management, Office of Nuclear Material Safety and Safeguards.

[FR Doc. 01-27953 Filed 11-6-01; 8:45 am]

BILLING CODE 7590-01-P